DEPARTMENT OF THE INTERIOR

National Park Service

[NPS-WASO-NAGPRA-NPS0038466; PPWOCRADN0-PCU00RP14.R50000]

Notice of Inventory Completion: University of California, Riverside, Riverside, CA

AGENCY: National Park Service, Interior.

ACTION: Notice.

SUMMARY: In accordance with the Native American Graves Protection and Repatriation Act (NAGPRA), the University of California, Riverside has completed an inventory of human remains and associated funerary objects and has determined that there is a cultural affiliation between the human remains and associated funerary objects and Indian Tribes or Native Hawaiian organizations in this notice.

DATES: Repatriation of the human remains and associated funerary objects in this notice may occur on or after September 9, 2024.

ADDRESSES: Megan Murphy, University of California, Riverside, 900 University Avenue, Riverside, CA 92517-5900, telephone (951) 827-6349, email megan.murphy@ucr.edu.

SUPPLEMENTARY INFORMATION: This notice is published as part of the National Park Service's administrative responsibilities under NAGPRA. The determinations in this notice are the sole responsibility of the University of California, Riverside, and additional information on the determinations in this notice, including the results of consultation, can be found in the inventory or related records. The National Park Service is not responsible for the determinations in this notice.

Abstract of Information Available

Based on the information available, human remains representing, at least, five individuals have been reasonably identified. The 21 associated funerary objects are three lots of unmodified animal bone, one lot of modified animal bone, three lots of ceramic sherds, three lots of lithic materials, three lots of shell beads, one lot of grinding stones, two lots of charcoal, two lots of other organic materials, one lot of floral materials, and two lots of unmodified shells.

In 1976 the cremated remains of at least two Native American individuals were removed from archaeological site CA-RIV-1171 by members of the University of California, Riverside Archaeological Research Unit (UCR-ARU). The site was in the Indian Wells area near La Quinta in Riverside County, California. The archaeologists were contacted by the property owner of the Indian Wells Mobile Home Estates to assess the 40-acre area for potential impact to archaeological resources during a proposed development of the dune area on the southwest portion of the property. During an initial examination of the dunes the archaeologists noted the presence of at least two human cremations on the surface as well as scatters of other objects like pottery sherds, lithic flakes, fish bone, and mussel shells. The archaeologists inferred that the site was occupied around the last stand of Ancient Lake Cahuilla around 500 years ago based on the presence of the fish bone and associated pottery types. The collection from the project was housed at UCR under accession number 54. Although the archaeologists noted the presence of human cremations in the dunes, human remains were not identified in the collection until decades later during consultation with a Cahuilla band and an osteologist. The tribal representatives also identified approximately 1,400 associated funerary objects including unmodified and modified animal bone, ceramic sherds, lithic flakes, shell beads, charcoal, other organic materials, and unmodified shells. The osteologist identified human remains representing at least one adult and one juvenile individual; no known individuals were identified.

In 1989 the University of California, Riverside Archaeological Research Unit (UCR-ARU) was hired by J.F. Davidson and Associates to conduct a pedestrian survey of 375 acres of property in the central Coachella Valley near Indio, Riverside county, California. During the surface survey a human cranial fragment was noted by archaeologists in addition to potsherds and other cultural materials. Five archaeological sites were documented during the project, but only the site where the human remains were noted, CA-RIV-3793, was recommended for further mitigation. In 1990 the UCR-ARU was then contracted again to conduct test excavations. During the excavations several human bone fragments were removed from the site, but were misidentified as animal bone. The collections were housed at UCR under accession number 154. In 2024 during a NAGPRA consultation, the remains were identified as one human infant tibia and one human juvenile canine tooth. Tribal representatives also identified associated funerary objects including ceramics, lithics, shell beads, animal bone, floral and other organic materials, and unmodified shell.

In 1993 human remains representing at least one Native American individual were removed from archaeological site CA-RIV-150 in Riverside County. The remains were uncovered during the grading of an area within Washington Square in La Quinta ahead of planned development. CA-RIV-150 is a well-known archaeological site, which was first recorded in 1933 by archaeologists. It is also well known to Cahuilla bands as a large village complex occupied by their ancestors. Charcoal samples from the project were sent to Beta Analytics for radiocarbon dating, which indicated an approximate date of A.D. 1430 to A.D. 1530. During the project, bone fragments were removed from Feature 3 of the site and were examined later at the LSA Associates Inc. laboratory where they were identified as human. Arrangements for reburial were made with one of the monitoring tribes and the remains and some associated funerary objects were returned in 1993. The remainder of the collection was subsequently curated at the University of California, Riverside under accession numbers 40 and 216. In 2024, during a NAGPRA consultation, an osteologist identified additional human remains that were misidentified as faunal in 1993. Tribal representatives also identified associated funerary objects in the collection.

Cultural Affiliation

Based on the information available and the results of consultation, cultural affiliation is clearly identified by the information available about the human remains and associated funerary objects described in this notice.

Determinations

The University of California, Riverside has determined that:

• The human remains described in this notice represent the physical remains of five individuals of Native American ancestry.

• The 21 objects described in this notice are reasonably believed to have been placed intentionally with or near individual human remains at the time of death or later as part of the death rite or ceremony.

• There is a reasonable connection between the human remains and associated funerary objects described in this notice and the Agua Caliente Band of Cahuilla Indians of the Agua Caliente Indian Reservation, California; Augustine Band of Cahuilla Indians, California; Cabazon Band of Cahuilla Indians (previously listed as Cabazon Band of Mission Indians, California); Cahuilla Band of Indians; Los Coyotes Band of Cahuilla and Cupeno Indians, California; Morongo Band of Mission Indians, California; Ramona Band of Cahuilla, California; Santa Rosa Band of Cahuilla Indians, California; and the Torrez Martinez Desert Cahuilla Indians, California.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after September 9, 2024. If competing requests for repatriation are received, the University of California, Riverside must determine the most appropriate requestor prior to repatriation. Requests for joint repatriation of the human remains and associated funerary objects are considered a single request and not competing requests. The University of California, Riverside is responsible for sending a copy of this notice to the Indian Tribes and Native Hawaiian organizations identified in this notice.

Authority: Native American Graves Protection and Repatriation Act, 25 U.S.C. 3003, and the implementing regulations, 43 CFR 10.10.

Dated: August 1, 2024.
Melanie O'Brien,
Manager, National NAGPRA Program.

[FR Doc. 2024-17879 Filed 8-9-24; 8:45 am]

BILLING CODE 4312-52-P